DEPARTMENT OF ENERGY

Federal Energy Regulatory Commission

[Docket Nos. EC06-100-000, et al.]

Dominion Nuclear Marketing III, L.L.C., et al.; Electric Rate and Corporate Filings

March 27, 2006.

The following filings have been made with the Commission. The filings are listed in ascending order within each docket classification.

1. Dominion Nuclear Marketing III, L.L.C.; Dominion Nuclear Connecticut, Inc. and Dominion Energy Marketing, Inc.

[Docket Nos. EC06-100-000, ER06-778-000]

Take notice that on March 21, 2006, Dominion Nuclear Marketing III, L.L.C. (“DNM III”), Dominion Nuclear Connecticut, Inc. (“DNC”) and Dominion Energy Marketing, Inc. (“DEMI”) submitted an application pursuant to section 203 of the Federal Power Act for authorization of a disposition of jurisdictional facilities as a result of an internal corporate reorganization where DNC interest will be transferred to DEMI and DNM III's market-based rate schedule Original Volume No. 1 shall be cancelled, effective upon the date of reorganization.

Comment Date: 5 p.m. eastern time on April 11, 2006.

2. Granite Ridge I SPE LLC; Granite Ridge Energy, LLC; Merrill Lynch Credit Products, LLC; Electron Holdings, LLC; Cargill Financial Services International, Inc.; Stonehill Institutional Partners, L.P.

[Docket No. EC06-101-000]

Take notice that on March 23, 2006, Granite Ridge I SPE LLC, Granite Ridge Energy, LLC, Merrill Lynch Credit Products, LLC, Electron Holdings, LLC, Cargill Financial Services International, Inc. and Stonehill Institutional Partners, L.P. filed an application pursuant to section 203 of the Federal Power Act seeking authorization to transfer equity and voting interests in Granite Ridge I to and/or from MLCP, Electron, Cargill Financial and Stonehill.

Comment Date: 5 p.m. eastern time on April 13, 2006.

3. PPM Energy, Inc.; PPM Wind Energy LLC; Aeolus Wind Power I LLC; Moraine Wind LLC; Klondike Wind Power LLC; Mountain View Power Partners III, LLC; Flying Cloud Power Partners, LLC

[Docket No. EC06-102-000]

Take notice that on March 23, 2006, PPM Energy, Inc., PPM Wind Energy LLC, Aeolus Wind Power I LLC, Moraine Wind LLC, Klondike Wind Power LLC, Mountain View Power Partners III, LLC and Flying Cloud Power Partners, LLC, filed a joint application pursuant to section 203 of the Federal Power Act for authorization for an intra-corporate reorganization and for the sale to FC Energy Finance I, Inc. of Class B membership interests in Aeolus Wind Power.

Comment Date: 5 p.m. eastern time on April 13, 2006.

4. ISO New England Inc.

[Docket No. ER06-647-001]

Take notice that on March 24, 2006, ISO New England Inc. and the New England Power Pool (NEPOOL) Participants Committee hereby joint submit a response to the deficiency letter issued on March 23, 2006 in the above-referenced proceeding to the February 16, 2006 joint filing.

Comment Date: 5 p.m. eastern time on April 3, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-4712 Filed 3-30-06; 8:45 am]

BILLING CODE 6717-01-P